DEPARTMENT OF COMMERCE

International Trade Administration

[A-570-878]

Saccharin From the People's Republic of China: Revocation of the Antidumping Duty Order

AGENCY: Enforcement and Compliance, International Trade Administration, Department of Commerce.

SUMMARY: As a result of the determination by the International Trade Commission (ITC) that revocation of the antidumping duty (AD) order on saccharin from the People's Republic of China (PRC) is not likely to lead to continuation or recurrence of material injury to an industry in the United States within a reasonably foreseeable time, the Department of Commerce (the Department) is revoking the AD order on saccharin from the PRC.

DATES: Effective Date: June 8, 2014.

FOR FURTHER INFORMATION CONTACT: Laurel LaCivita, AD/CVD Operations, Office III, Enforcement and Compliance, International Trade Administration, U.S. Department of Commerce, 14th Street and Constitution Avenue NW., Washington, DC 20230; telephone: (202) 482-4243.

SUPPLEMENTARY INFORMATION:

Background

On July 9, 2003, the Department published the AD order on saccharin from the PRC ¹ and, on June 8, 2009, at the conclusion of the first sunset review, the Department published a notice of continuation of the AD order on saccharin from the PRC.² On May 1, 2014, the Department initiated a second sunset review of the AD order on saccharin from the PRC, pursuant to section 751(c) of the Tariff Act of 1930, as amended (the Act). As a result of its review, the Department determined that revocation of the AD order on saccharin from the PRC would likely lead to a continuation or recurrence of dumping and notified the ITC of the magnitude of the margins of dumping likely to prevail were the order revoked.³

¹ See Notice of Antidumping Duty Order: Saccharin from the People's Republic of China, 68 FR 40906 (July 9, 2003).

² See Continuation of Antidumping Duty Order on Saccharin from the People's Republic of China, 74 FR 27089 (June 8, 2009) (“Continuation”).

³ See Saccharin from the People's Republic of China: Final Results of Expedited Second Sunset Review of Antidumping Duty Order, 79 FR 51139 (August 27, 2014).

On May 28, 2015, the ITC published its determination, pursuant to sections 751(c) and 752(a) of the Act, that revocation of the AD order on saccharin from the PRC would not be likely to lead to the continuation or recurrence of material injury within a reasonably foreseeable time.⁴

⁴ See Investigation No. 731-TA-1013 (Second Review), Saccharin from China, 80 FR 30487 (May 28, 2015); see also, Saccharin from China (Inv. No. 731-TA-1013 (Second Review), USITC Publication 4534, May 2015).

Scope of the Order

The product covered by this AD order is saccharin. Saccharin is defined as a non-nutritive sweetener used in beverages and foods, personal care products such as toothpaste, table top sweeteners, and animal feeds. It is also used in metalworking fluids. There are four primary chemical compositions of saccharin: (1) Sodium saccharin (American Chemical Society Chemical Abstract Service (“CAS”) Registry 128-44-9); (2) calcium saccharin (CAS Registry 6485-34-3); (3) acid (or insoluble) saccharin (CAS Registry 81-07-2); and (4) research grade saccharin. Most of the U.S.-produced and imported grades of saccharin from the PRC are sodium and calcium saccharin, which are available in granular, powder, spray-dried powder, and liquid forms. The merchandise subject to this order is currently classifiable under subheading 2925.11.00 of the Harmonized Tariff Schedule of the United States (“HTSUS”) and includes all types of saccharin imported under this HTSUS subheading, including research and specialized grades. Although the HTSUS subheading is provided for convenience and customs purposes, the Department's written description of the scope of this order remains dispositive.

Revocation

As a result of the determination by the ITC that revocation of the AD order on saccharin from the PRC would not be likely to lead to continuation or recurrence of material injury to an industry in the United States, pursuant to section 751(d)(2) of the Act, the Department is revoking the AD order on saccharin from the PRC. Pursuant to section 751(d)(2) of the Act and 19 CFR 351.222(i)(2)(i), the effective date of revocation is June 8, 2014 (i.e., the fifth anniversary of the effective date of publication in the Federal Register of the previous continuation of this order).⁵

⁵ See Continuation.

Cash Deposits and Assessment of Duties

The Department will notify CBP, 15 days after publication of this notice, to terminate the suspension of liquidation and to discontinue the collection of cash deposits on entries of the subject merchandise from the PRC, entered or withdrawn from warehouse, on or after June 8, 2014. The Department will further instruct CBP to refund with interest all cash deposits on entries made on or after June 8, 2014.

Administrative Protective Order

This notice also serves as the only reminder to parties subject to administrative protective order (APO) of their responsibility concerning the return/destruction or conversion to judicial protective order of proprietary information disclosed under APO in accordance with 19 CFR 351.305(a)(3). Failure to comply is a violation of the APO which may be subject to sanctions.

This notice is published in accordance with sections 751(d)(2) and 777(i) the Act, and 19 CFR 351.218(f)(4).

Dated: May 29, 2015.
Paul Piquado,
Assistant Secretary for Enforcement and Compliance.

[FR Doc. 2015-14069 Filed 6-8-15; 8:45 am]

BILLING CODE 3510-DS-P